DEPARTMENT OF LABOR

Agency Information Collection Activities; Submission for OMB Review; Comment Request; Operator Response To Schedule for the Submission of Additional Evidence and Operator Response to Notice of Claim

ACTION: Notice of availability; request for comments.

SUMMARY: The Department of Labor (DOL) is submitting this Office of Workers' Compensation Programs (OWCP)-sponsored information collection request (ICR) to the Office of Management and Budget (OMB) for review and approval in accordance with the Paperwork Reduction Act of 1995 (PRA). Public comments on the ICR are invited.

DATES: The OMB will consider all written comments that the agency receives on or before October 11, 2023.

ADDRESSES: Written comments and recommendations for the proposed information collection should be sent within 30 days of publication of this notice to www.reginfo.gov/public/do/PRAMain. Find this particular information collection by selecting “Currently under 30-day Review—Open for Public Comments” or by using the search function.

Comments are invited on: (1) whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Michelle Neary by telephone at 202-693-6312, or by email at DOL_PRA_PUBLIC@dol.gov.

SUPPLEMENTARY INFORMATION: The OWCP, Division of Coal Mine Workers' Compensation (DCMWC) administers the Black Lung Benefits Act (30 U.S.C. 901 et seq.), which provides benefits to coal miners totally disabled due to pneumoconiosis and their surviving dependents. When the DCMWC makes a preliminary analysis of a claimant's eligibility for benefits, and if a coal mine operator has been identified as potentially liable for payment of those benefits, the responsible operator is notified of the preliminary analysis. Regulations codified at 20 CFR part 725 require that a coal mine operator be identified and notified of potential liability as early in the adjudication process as possible. Coal Mine Operator Response to Schedule for Submission of Additional Evidence (Form CM-2970) and Operator Response to Notice of Claim (Form CM-2970a) are used for claims filed after January 19, 2001, and indicate that the coal mine operator will submit additional evidence or respond to the notice of claim. For additional substantive information about this ICR, see the related notice published in the Federal Register on May 8, 2023 (88 FR 29697).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-OWCP.

Title of Collection: Operator Response to Schedule for the Submission of Additional Evidence and Operator Response to Notice of Claim.

OMB Control Number: 1240-0033.

Affected Public: Businesses or other for-profits.

Total Estimated Number of Respondents: 5,294.

Total Estimated Number of Responses: 8,082.

Total Estimated Annual Time Burden: 1,790 hours.

Total Estimated Annual Other Costs Burden: $1,673.

(Authority: 44 U.S.C. 3507(a)(1)(D))

Michelle Neary,
Senior PRA Analyst.

[FR Doc. 2023-19503 Filed 9-8-23; 8:45 am]

BILLING CODE 4510-CK-P